DEPARTMENT OF COMMERCE

International Trade Administration

Withdrawal of Application for Duty-Free Entry of Scientific Instruments

Applications may be examined between 8:30 A.M. and 5:00 P.M. in Room 2104, Statutory Import Programs Staff, U.S. Department of Commerce 14th and Constitution Ave., NW, Room 2104 Washington, D.C. 20230.

Docket Number: 10-039. Applicant: Northwestern University, 2205 Tech Drive Hogan 2-100, Evanston, IL 60201. Instrument: Electron Microscope. Manufacturer: JEOL, Ltd., Japan. Intended Use: See notice at 75 FR 37384, June 29, 2010.

Pursuant to Section 6(c) of the Educational, Scientific and Cultural Materials Importation Act of 1966 (Pub. L. 89-651; as amended by Pub. L. 106-36; 80 Stat. 897; 15 CFR part 301), the Department of Commerce and the Department of Homeland Security determine, inter alia, whether instruments of equivalent scientific value, for the purposes for which the instruments shown below are intended to be used, are being manufactured in the United States as well as whether the instrument or apparatus is for the exclusive use of the applicant institution and is not intended to be used for commercial purposes.

On July 16, 2010, Northwestern University officials notified the Department that they wished to withdraw the above-referenced application for duty-free entry of a scientific instrument. They noted that the instrument will be used at a show/demonstration. As noted in the regulations at section 301.4(a)(3), in order for an application to be considered within the scope of the Act and the regulations, the instrument or apparatus must be for the exclusive use of the applicant institution and is not intended to be used for commercial purposes. For the purposes of this section, commercial uses would include the use of the instrument for demonstration purposes in return for a fee.

Therefore, the Department of Commerce has discontinued the processing of this application, in accordance with section 301.5(g) of the regulations. See 15 CFR 301.5(g).

Gregory W. Campbell,
Acting Director, Subsidies Enforcement Office, Import Administration.

[FR Doc. 2010-18786 Filed 7-29-10; 8:45 am]

BILLING CODE 3510-DS-S